DEPARTMENT OF ENERGY

Federal Energy Regulatory Commission

[Project No. 13356-000]

Slatersville Hydro, LLC; Notice of Intent To Waive Scoping

October 22, 2009.

Take notice that the following hydroelectric application has been filed with the Commission and is available for public inspection.

a. Type of Application: Exemption From Licensing.

b. Project No.: P-13356-000.

c. Date Filed: January 15, 2009.

d. Applicant: Slatersville Hydro, LLC.

e. Name of Project: Slatersville Hydroelectric Project.

f. Location: On the Branch River in Providence County, Rhode Island. The project would not occupy any land of the United States.

g. Filed Pursuant to: Public Utilities Regulatory Policies Act of 1978, 16 U.S.C. 2705, 2708.

h. Applicant Contact: Michael P. DeFrancesco, 87 Hall Road, Exeter, RI 02822, (401) 742-1968.

i. FERC Contact: Tom Dean, (202) 502-6041.

j. On May 8, 2009, Commission staff requested additional information from Slatersville Hydro including interim water quality monitoring reports. On August 5, 2009, Slatersville Hydro filed the requested information, and on August 13 and October 15, 2009, Slatersville Hydro filed interim water quality reports (the final water quality report is due January 15, 2010).

Based on a review of the exemption application, additional environmental information subsequently filed by Slatersville Hydro, resource agency consultation letters and comments filed to date, Commission staff intend to prepare a single environmental assessment (EA). The EA will assess the potential effects of project construction and operation on geology and soils, aquatic, terrestrial, threatened and endangered species, recreation and land use, aesthetic, and cultural and historic resources. Because staff believe the issues that need to be addressed in its EA have been adequately identified, with this notice, we are soliciting comments on our intent to waive scoping for the Slatersville Project.

k. The deadline for filing comments is 30 days from the issuance date of this notice.

All documents (original and eight copies) should be filed with: Kimberly D. Bose, Secretary, Federal Energy Regulatory Commission, 888 First Street, NE., Washington, DC 20426.

l. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. E9-25978 Filed 10-28-09; 8:45 am]

BILLING CODE 6717-01-P